DEPARTMENT OF THE INTERIOR

National Park Service

Repair Kalaupapa Dock Structures To Ensure Continued Barge Service; Kalaupapa National Historical Park, Hawaii; Notice of Intent To Prepare Environmental Impact Statement

SUMMARY: Pursuant to the National Environmental Policy Act of 1969, 42 U.S.C. 4332(2)(C), the National Park Service will prepare an Environmental Impact Statement (EIS) for all repairs of Kalaupapa dock structures as may be necessary to ensure continued barge service for Kalaupapa National Historical Park (NHP) and community residents. Kalaupapa NHP was established on the island of Molokai in 1980 in recognition of the significant role of this extremely isolated area in the development of treatments and care for persons with Hansen's disease. The proposed project may include stabilization and repair of the failing bulkhead wall and toe structure located adjacent to the pier; repair and reconstruction of the severely cracked and deteriorating concrete pier; replacement of mooring dolphins to used to secure barges; and dredging and potentially blasting to widen the berthing channel. Timely repair of the structures is needed to avoid any disruption of incoming barge service upon which Kalaupapa NHP and community residents depend for their livelihood (as well as regular outgoing service required for the park's recycling program and other activities).

The National Park Service (NPS) previously conducted public scoping during spring and summer 2008, and began preparing an environmental assessment. A community meeting was conducted in March, 2008. Oral and written comments were obtained from the Kalaupapa patient community and park neighbors; state, county, and federal agencies, including Hawaii Department of Health, the State Historic Preservation Officer, and U.S. Fish and Wildlife Service; interested organizations; and Native Hawaiian groups. Based on information obtained, particularly concerning the degree to which potential impacts could adversely affect several species protected under the Endangered Species Act, the NPS has determined that preparation of an EIS is warranted. Moreover the dock and harbor setting are deemed to be potential contributing elements to the National Historic Landmark status of Kalaupapa Leprosy Settlement made famous by Father Damien.

DATES: All written comments must be postmarked or transmitted not later than June 8, 2009.

FOR FURTHER INFORMATION CONTACT: Current information about proposed repairs to Kalaupapa dock or design of appurtenant structures will be available from Superintendent Steve Prokop, Kalaupapa National Historical Park, P.O. Box 2222, Kalaupapa, HI 96742 (808) 567-6802 (or at http://parkplanning.nps.gov/kala).

Scoping Process: The NPS will formally conclude the public scoping phase (needed to inform preparation of a Draft EIS) following receipt of any and all comments as noted above. All previously submitted comments are documented in the administrative record; only new issues and concerns need to be submitted at this time. During this final scoping period, public meetings will also be conducted—the dates, times, and locations will be announced via local and regional press media and on the project website (noted above). Confirmed details may also be obtained by contacting the Superintendent of Kalaupapa NHP.

All new relevant environmental information, or additional comments on any issues that may be associated with the proposed project, should be submitted by mail to the attention of the Superintendent (address as noted above, or you may submit comments electronically at http://parkplanning.nps.gov/kala). Before including your address, phone number, e-mail address, or other personal identifying information in your comment, you should be aware that your entire comment, including your personal identifying information, may be made publicly available at any time. While you can ask us in your comment to withhold your personal identifying information from public review, we cannot guarantee that we will be able to do so.

Decision Process: All information and comments received will be carefully considered in preparing a Draft EIS, availability of which will be similarly announced in the Federal Register. Following release of the Draft EIS for public and agency review, a Final EIS will be prepared. As a delegated EIS, the official responsible for approval of any dock repair project is the Regional Director, Pacific West Region, National Park Service. Notice of approval of a Record of Decision will also be published in the Federal Register. The official responsible for implementation of the approved project will be the Superintendent, Kalaupapa National Historical Park.

Dated: December 30, 2008.
Jonathan B. Jarvis,
Regional Director, Pacific West Region.

Editorial Note: This document was received in the Office of the Federal Register on April 10, 2009.

[FR Doc. E9-8623 Filed 4-16-09; 8:45 am]

BILLING CODE 4312-GJ-M